DEPARTMENT OF AGRICULTURE

Forest Service

Information Collection; Forest Landscape Value and Special Place Mapping for National Forest Planning

AGENCY: Forest Service, USDA.

ACTION: Notice; request for comment.

SUMMARY: In accordance with the Paperwork Reduction Act of 1995, the Forest Service is seeking comments from all interested individuals and organizations on the new information collection, Forest Landscape Value and Special Place Mapping for National Forest Planning.

DATES: Comments must be received in writing on or before June 1, 2010 to be assured of consideration. Comments received after that date will be considered to the extent practicable.

ADDRESSES: Comments concerning this notice should be addressed to Dr. Patrick Reed, National Human Dimensions Program Social Scientist, USDA Forest Service, 3301 C Street, Suite 202, Anchorage, AK 99503.

Comments may also be submitted by e-mail to preed01@fs.fed.us.

The public may inspect comments received at 201 14th St., SW., 3CEN during normal business hours. Visitors are encouraged to call ahead to 202-205-9969 or 202-360-3486 to facilitate entry to the building.

FOR FURTHER INFORMATION CONTACT: Dr. Patrick Reed, USDA Forest Service, 907-743-9571. Individuals who use telecommunication devices for the deaf (TDD) may call the Federal Relay Service (FRS) at 1-800-877-8339, 24 hours a day, every day of the year, including holidays.

SUPPLEMENTARY INFORMATION:

Title: Forest Landscape Value and Special Place Mapping for National Forest Planning.

OMB Number: 0596-NEW.

Type of Request: New.

Abstract: The Forest Service is proposing to augment the public participation process for revision of national forest land management plans by collecting data about the nature and location of landscape values and special places recognized by the public on national forest lands. Over the next 3 years, up to 15 national forest units will collect the aforementioned information as part of the national forest plan revision public participation process. The forest plan revision includes determining public desire for use (along with suitability of areas for different uses), identification of special areas, collaboration with the public, and monitoring for adaptive management.

Primarily using an Internet-based geographic information system (GIS), national forests will invite the public to share values regarding specific forest landscapes and special places. A comparable paper-based option, suitable for use in mail back surveys and focus group meetings, may be provided to individuals who do not have access to the Internet or as an alternative primary means of collecting data.

The information will be used in the revision of specific national forest plans. Forest planners and managers will use the collected information to develop land management plans that are consistent with public values, while working within the regulatory framework. The data collected would provide Forest Service managers with a new, systematic science-based tool for collecting and analyzing public opinion about desired forest conditions and use of specific geographic forest locations. Survey results will be useful in gauging public support for proposed forest management options and in collaborative and participatory approaches to planning. While the collection is designed to assist with development of forest land management plans under NFMA, the information collected could be used in a variety of forest planning processes (i.e., travel management and recreation facilities planning) and projects.

The legal authorities supporting the collection of this information include the National Environmental Policy Act (NEPA) of 1969, the National Forest Management Act (NFMA) of 1976, and the proposed 2008 NFMA Planning Rule (36 CFR part 219).

Estimate of Annual Burden: 20 minutes.

Type of Respondents: Individuals; State, county, and tribal governments; as well as for-profit and non-profit entities.

Estimated Annual Number of Respondents: 3,500 (average of 3 years).

Estimated Annual Number of Responses per Respondent: 1.

Estimated Total Annual Burden on Respondents: 1,167 hours (average of 3 years).

Comment is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: March 29, 2010.
Gloria Manning,
Associate Deputy Chief, NFS.

[FR Doc. 2010-7551 Filed 4-1-10; 8:45 am]

BILLING CODE 3410-11-P